DEPARTMENT OF HEALTH AND HUMAN SERVICES

Food and Drug Administration

[Docket No. FDA-2009-N-0664]

Oncologic Drugs Advisory Committee; Cancellation

AGENCY: Food and Drug Administration, HHS.

ACTION: Notice.

SUMMARY: The meeting of the Oncologic Drugs Advisory Committee scheduled for October 6, 2009, is cancelled. This meeting was announced in the Federal Register of August 25, 2009 (74 FR 42907). The October 6, 2009, Oncologic Drugs Advisory Committee meeting was to discuss ApoPharma, Inc.'s new drug application (NDA) 021-825 for proposed trade name FERRIPROX (deferiprone) film-coated tablets. This meeting has been cancelled to allow time for FDA to review and resolve several outstanding issues. The agency intends to continue evaluating NDA 021-825 and, as needed, may schedule an advisory committee meeting in the future.

FOR FURTHER INFORMATION CONTACT: Nicole Vesely, Center for Drug Evaluation and Research (HFD-21), Food and Drug Administration, 5600 Fishers Lane (for express delivery, 5630 Fishers Lane, rm. 1093), Rockville, MD 20857, 301-827-6793, FAX: 301-827-6776, e-mail: nicole.vesely@fda.hhs.gov, or FDA Advisory Committee Information Line, 1-800-741-8138 (301-443-0572 in the Washington, DC area), code 3014512542. Please call the Information Line for up-to-date information on this meeting.

Dated: September 28, 2009.
David Horowitz,
Assistant Commissioner for Policy.

[FR Doc. E9-23764 Filed 10-1-09; 8:45 am]

BILLING CODE 4160-01-S